DEPARTMENT OF COMMERCE

Bureau of Industry and Security

15 CFR Part 740

License Exceptions

CFR Correction

In Title 15 of the Code of Federal Regulations, revised as of January 1, 2007, on page 282, in Supplement No. 1 To Part 740—Country Groups, in the table Country Group D, for the entry “Korea, North,” the table is corrected by adding an X under the second column [D: 1] National Security.

[FR Doc. 07-55513 Filed 10-16-07; 8:45 am]

BILLING CODE 1505-01-D